FEDERAL ELECTION COMMISSION

Sunshine Act Meeting Notices

Date and Time: Tuesday, June 6, 2006 at 10 a.m.

Place: 999 E Street, NW., Washington, DC (Ninth Floor).

Status: This meeting will be open to the public.

Items To Be Discussed: Correction and Approval of Minutes.

Advisory Opinion 2006-14: National Restaurant Association PAC, by counsel, Carol A. Laham and D. Mark Renaud.

Routine Administrative Matters.

Date and Time: Tuesday, June 6, 2006 at the conclusion of the open meeting.

Place: 999 E Street, NW., Washington, DC.

Status: This meeting will be closed to the public.

Items To Be Discussed: Compliance matters pursuant to 2 U.S.C. 437g.

Audits conducted pursuant to 2 U.S.C. 437g, § 438(b), and Title 26, U.S.C.

Matters concerning participation in civil actions or proceedings or arbitration.

Internal personnel rules and procedures or matters affecting a particular employee.

Person to Contact for Information: Mr. Robert Biersack, Press Officer, Telephone: (202) 694-1220.

Mary W. Dove,
Secretary of the Commission.

[FR Doc. 06-5074 Filed 5-30-06; 2:42 pm]

BILLING CODE 6715-01-M